ENVIRONMENTAL PROTECTION AGENCY

40 CFR Part 52

[R04-OAR-2005-AL-0002-200528b; FRL-8043-1]

Approval and Promulgation of Implementation Plans; Alabama: State Implementation Plan Revision

AGENCY: Environmental Protection Agency (EPA).

ACTION: Proposed rule.

SUMMARY: EPA is approving revisions to the Alabama State Implementation Plan (SIP), submitted by the Alabama Department of Environmental Management (ADEM) on September 11, 2003. The revisions include modifications to Alabama's open burning rules found at Alabama Administrative Code (AAC) Chapter 335-3-3-.01. These revisions are part of Alabama's strategy to meet the national ambient air quality standards by reducing emissions of volatile organic compounds and nitrogen oxides. Open burning creates smoke that contains fine particles (PM2.5) and precursors to ozone. ADEM has found that elevated levels of PM2.5 mirror the months when ozone levels are highest (May-September). These rules are intended to help control levels of PM2.5 and ozone precursors that contribute to high ozone and PM2.5 levels. Today's action is being taken pursuant to section 110 of the Clean Air Act. In its September 11, 2003, submittal, ADEM also proposed SIP revisions to include changes to AAC Chapter 335-3-4, concerning opacity. EPA is not acting on that part of the revision at this time.

In the Rules Section of this Federal Register, EPA is approving Alabama's SIP revision as a direct final rule without prior proposal because the Agency views this as a noncontroversial submittal and anticipates no adverse comments. A rationale for the approval is set forth in the direct final rule, and incorporated herein by reference. If no significant, material, and adverse comments are received in response to this rule, no further activity is contemplated with regard to this proposed action. If EPA receives adverse comments, the direct final rule will be withdrawn and all public comments received will be addressed in a subsequent final rule based on this proposed action. EPA will not institute a second comment period on this document. Any parties interested in commenting on this document should do so at this time.

DATES: Written comments must be received on or before April 10, 2006.

ADDRESSES: Comments may be submitted by mail to: Stacy DiFrank, Regulatory Development Section, Air Planning Branch, Air, Pesticides and Toxics Management Division, U.S. Environmental Protection Agency, Region 4, 61 Forsyth Street, SW., Atlanta, Georgia 30303-8960. Comments may also be submitted electronically, or through hand delivery/courier. Please follow the detailed instructions described in the direct final rule, ADDRESSES section which is published in the Rules Section of this Federal Register.

FOR FURTHER INFORMATION CONTACT: Stacy DiFrank, Regulatory Development Section, Air Planning Branch, Air, Pesticides and Toxics Management Division, U.S. Environmental Protection Agency, Region 4, 61 Forsyth Street, SW., Atlanta, Georgia 30303-8960. The telephone number is (404) 562-9042. Ms. DiFrank can also be reached via electronic mail at difrank.stacy@epa.gov.

SUPPLEMENTARY INFORMATION: For additional information, see the direct final rule which is published in the Rules Section of this Federal Register.

Dated: February 17, 2006.
A. Stanley Meiburg,
Acting Regional Administrator, Region 4.

[FR Doc. 06-2183 Filed 3-8-06; 8:45 am]

BILLING CODE 6560-50-P